DEPARTMENT OF COMMERCE

National Oceanic and Atmospheric Administration

RIN 0648-XA87

Endangered and Threatened Species; Take of Anadromous Fish

AGENCY: National Marine Fisheries Service (NMFS), National Oceanic and Atmospheric Administration (NOAA), Commerce.

ACTION: Proposed modication of permit 1235.

SUMMARY: NOAA's National Marine Fisheries Service (NMFS) has received a request from the City of Seattle (the City) to amend its Permit 1235 (Permit) authorizing take of Puget Sound chinook salmon incidental to the operation of the City's watershed supply and management system. NMFS is requesting comments on whether Permit 1235 if amended as requested would still meet the statutory criteria for issuance of an incidental take permit.

DATES: Written comments on the proposed permit amendment must be received at the appropriate address or fax number (see ADDRESSES) no later than 5 p.m. Pacific Standard Time July 20, 2007.

ADDRESSES: Written comments should be sent to Matthew Longenbaugh, Habitat Conservation Division, National Marine Fisheries Service, 510 Desmond Drive, Suite 103, Lacey, WA 98503. Comments may also be faxed to 360-753-9517. Comments will be accepted via email at Matthew.Longenbaugh@noaa.gov

FOR FURTHER INFORMATION CONTACT: Matthew Longenbaugh at phone number 360-753-7761, or e-mail: Matthew.Longenbaugh@noaa.gov

SUPPLEMENTARY INFORMATION: Under the Endangered Species Act (ESA) and its implementing regulations, "take" - defined to include harm and harassment as well as activities such as killing and capture - of endangered species is prohibited, absent a permit or other exception. By regulation, NMFS has applied the prohibition of take to threatened Puget Sound chinook salmon. In 2000, NMFS issued Incidental Take Permit 1235 (Permit) authorizing take of Puget Sound chinook salmon incidental to the operation of the City's water supply system. The City's Cedar River Watershed Habitat Conservation Plan (HCP), required for issuance of an incidental take permit, and supporting documents by NMFS analyzed the effects of the City's activities, not only to the listed Puget Sound chinook salmon but also to several species that were not listed under the ESA in 2000. The HCP and the Implementing Agreement (IA) signed by the City and NMFS, among others, provide that the Permit's authorization for incidental take of unlisted species becomes effective for that species upon its listing and subsequent application of the take prohibition. However, until the species is listed and take is prohibited, the City needs no Federal authorization to take individual members of that unlisted species.

On March 1, 2007, the City requested that the Permit no longer include one species of salmon, the Cedar River sockeye, that remains unlisted. In conjunction with this, the City also wishes to remove as covered activities the interim sockeye hatchery and the planned permanent sockeye hatchery, included in the HCP.

NMFS believes that this proposed change could qualify as a minor modification, pursuant to section 12.1 of the IA, because it appears that none of the remaining operations covered by the Permit would change and the City would remain obligated to continue all of the Permit's other mitigation measures. Further, NMFS believes that removal of the sockeye and the interim and planned hatcheries from the Permit will have no effect on operation of those hatcheries. Separate agreements, namely the Landsburg Mitigation Agreement signed by the City, NMFS and the State of Washington, as well a court settlement with the Muckleshoot Tribe, require that the City continue sockeye hatchery operations with the same mitigation measures and adaptive management that would be required under the Permit.

However, NMFS wishes to ensure that the Permit, without the Cedar River sockeye as a covered species and the interim and planned hatcheries as covered activities, is still consistent with the statutory issuance criteria contained in section 10 of the ESA. Accordingly, NMFS will treat the requested change as if it were an amendment pursuant to 12.2 of the IA, including conducting any required environmental reviews. NMFS therefore seeks comment on Permit 1235 as it would operate without including the Cedar River sockeye and the interim and planned hatcheries. NMFS is particularly interested in information regarding whether this change would alter the operations that will still be covered by the Permit, and whether the mitigation measures for those remaining operations will need modification.

Authority

Under section 10(a)(1)(b) of the ESA, the Secretary of Commerce is authorized to issue permits for incidental take of ESA-listed species. The regulations that describe procedures for issuing these permits are found at 50 CFR 222.307.

Dated: June 14, 2007.
Angela Somma,
Chief, Endangered Species Division, Office of Protected Resources, National Marine Fisheries Service.

[FR Doc. E7-11963 Filed 6-19-07; 8:45 am]

BILLING CODE 3510-22-S